DEPARTMENT OF HOMELAND SECURITY

Federal Law Enforcement Training Center

Notice of meeting

AGENCY: Federal Law Enforcement Training Center (FLETC), Department of Homeland Security.

ACTION: Notice of Meeting.

SUMMARY: The Advisory Committee to the National Center for State and Local Law Enforcement Training (National Center) at the Federal Law Enforcement Training Center will meet on December 1, 2004, beginning at 8 a.m.

ADDRESSES: Federal Law Enforcement Training Center, 1131 Chapel Crossing Road, Glynco, GA 31524.

FOR FURTHER INFORMATION CONTACT: Reba Fischer, Designated Federal Officer, National Center for State and Local Law Enforcement Training, Federal Law Enforcement Training Center, Glynco, GA 31524, 912-267-2343, reba.fischer@dhs.gov.

SUPPLEMENTARY INFORMATION: The agenda for this meeting includes remarks by the Committee Co-Chairs, Randy Beardsworth, Director of Operations, Border and Transportation Security, Department of Homeland Security, and Deborah Daniels, Assistant Attorney General, Office of Justice Programs, Department of Justice; an update on current training initiatives of the National Center; and planning of strategic goals. This meeting is open to the public. Anyone desiring to attend must contact Reba Fischer, the Designated Federal Officer, no later than November 20, 2004, at (912) 267-2343, to arrange clearance. This meeting was originally scheduled for September 14, 2004, but was cancelled due to Hurricane Ivan.

Dated: November 5, 2004.
Stanley Moran,
Director, National Center for State and Local Law Enforcement Training.

[FR Doc. 04-25545 Filed 11-12-04; 4:32 pm]

BILLING CODE 4810-32-U